FEDERAL ELECTION COMMISSION

Sunshine Act Meeting

TIME AND DATE: Thursday, January 14, 2021 at 10:00 a.m.

PLACE: Virtual meeting. Note: Because of the covid-19 pandemic, we will conduct the open meeting virtually. If you would like to access the meeting, see the instructions below.

STATUS: This meeting will be open to the public. To access the virtual meeting, go to the commission's website www.fec.gov and click on the banner to be taken to the meeting page.

MATTERS TO BE CONSIDERED:

Welcoming Remarks

Draft Advisory Opinion 2020-02: Bertrand

Audit Division Recommendation Memorandum on the Mississippi Republican Party (A17-05)

Audit Division Recommendation Memorandum on Van Drew for Congress (A19-04)

Audit Division Recommendation Memorandum on the National Tooling & Machining Association (NTMA) Committee for a Strong Economy

(A19-10)

Proposed Final Audit Report on the Democratic Foundation of Orange County (A19-23)

Management and Administrative Matters

CONTACT PERSON FOR MORE INFORMATION: Judith Ingram, Press Officer, Telephone: (202) 694-1220.

Authority: Government in the Sunshine Act, 5 U.S.C. 552b

Laura E. Sinram,
Acting Secretary and Clerk of the Commission.

[FR Doc. 2021-00463 Filed 1-7-21; 4:15 pm]

BILLING CODE 6715-01-P